DEPARTMENT OF HOMELAND SECURITY

Federal Emergency Management Agency

[Docket ID FEMA-2025-0002; Internal Agency Docket No. FEMA-B-2522]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Florida:
Manatee | Unincorporated areas of Manatee County (24-04-7081P). | Charlie Bishop, Manatee County Administrator, 1112 Manatee Avenue West, Bradenton, FL 34205. | Manatee County Administration Building, 1112 Manatee Avenue West, Bradenton, FL 34205. | https://msc.fema.gov/portal/advanceSearch. | Jul. 3, 2025 | 120153
Miami-Dade | Unincorporated areas of Miami-Dade County (24-04-1524P). | Marina Blanco Pape, Division Director, Miami-Dade Regulatory and Economic Resources, Water Management Division, 701 Northwest 1st Court, 5th Floor, Miami, FL 33136. | Miami-Dade Regulatory and Economic Resources, Overtown Transit Village North Water Management Division, 701 Northwest 1st Court, 5th Floor, Miami, FL 33136. | https://msc.fema.gov/portal/advanceSearch. | Jul. 16, 2025 | 120635
Monroe | Village of Islamorada (24-04-5214P). | The Honorable Sharon Mahoney, Mayor, Village of Islamorada, 86800 Overseas Highway, Islamorada, FL 33036. | Building Department, 86800 Overseas Highway, Islamorada, FL 33036. | https://msc.fema.gov/portal/advanceSearch. | Jun. 20, 2025 | 120424
Orange | City of Orlando (25-04-1337P). | The Honorable Buddy Dyer, Mayor, City of Orlando, 400 South Orange Avenue, Orlando, FL 32801. | Public Works Department, 400 South Orange Avenue, Orlando, FL 32801. | https://msc.fema.gov/portal/advanceSearch. | Aug. 11, 2025 | 120186
Orange | Unincorporated areas of Orange County (25-04-0551P). | The Honorable Jerry L. Demings, Mayor, Orange County, 201 South Rosalind Avenue, 5th Floor, Orlando, FL 32801. | Orange County Public Works Department, Stormwater Management Division, 4200 South John Young Parkway, Orlando, FL 32839. | https://msc.fema.gov/portal/advanceSearch. | Aug. 11, 2025 | 120179
Pasco | Unincorporated areas of Pasco County (24-04-2976P). | Kathryn Starkey, Chair, Pasco County Board of Commissioners, 37918 Meridian Avenue, Dade City, FL 33525. | Pasco County Building Construction Services Department, 8661 Citizens Drive, Suite 100, New Port Richey, FL 34654. | https://msc.fema.gov/portal/advanceSearch. | Aug. 11, 2025 | 120230
Pasco | Unincorporated areas of Pasco County (24-04-5989P). | Kathryn Starkey, Chair, Pasco County Board of Commissioners, 37918 Meridian Avenue, Dade City, FL 33525. | Pasco County Building Construction Services Department, 8661 Citizens Drive, Suite 100, New Port Richey, FL 34654. | https://msc.fema.gov/portal/advanceSearch. | Jul. 24, 2025 | 120230
Polk | Unincorporated areas of Polk County (24-04-7668P). | Bill Beasley, Polk County Manager, 330 West Church Street, Bartow, FL 33831. | Polk County Land Development Division, Floodplain Manager, Drawer GM03, 330 West Church Street, Bartow, FL 33831. | https://msc.fema.gov/portal/advanceSearch. | Jul. 17, 2025 | 120261
Kentucky: Jefferson | Metropolitan Government of Louisville and Jefferson County (24-04-0228P). | The Honorable Craig Greenberg, Mayor, Metropolitan Government of Louisville and Jefferson County, 527 West Jefferson Street, Louisville, KY 40202. | Louisville/Jefferson County Metropolitan Sewer District, 700 West Liberty Street, Louisville, KY 40203. | https://msc.fema.gov/portal/advanceSearch. | Jun. 26, 2025 | 210120
Michigan: Macomb | City of Sterling Heights (24-05-2340P). | Mark D. Vanderpool, Manager, City of Sterling Heights, 40555 Utica Road, Sterling Heights, MI 48311. | City Hall, 40555 Utica Road, Sterling Heights, MI 48311. | https://msc.fema.gov/portal/advanceSearch. | Jul. 23, 2025 | 260128
Mississippi: Hancock | City of Bay St. Louis (23-04-6175P). | The Honorable Mike Farve, Mayor, City of Bay St. Louis, 688 Highway 90, Bay St. Louis, MS 39520. | City Hall, 688 Highway 90, Bay St. Louis, MS 39520. | https://msc.fema.gov/portal/advanceSearch. | Aug. 1, 2025 | 285251
New Mexico: Bernalillo | Unincorporated areas of Bernalillo County (23-06-1906P). | Cindy Chavez, Manager, Bernalillo County, 415 Silver Avenue Southwest, Albuquerque, NM 87102. | Bernalillo County Clerk's Office, 415 Silver Avenue Southwest, Albuquerque, NM 87102. | https://msc.fema.gov/portal/advanceSearch. | Jul. 17, 2025 | 350001
North Carolina: Mecklenburg | Town of Davidson (24-04-3518P). | The Honorable Rusty Knox, Mayor, Town of Davidson, P.O. Box 579, Davidson, NC 28036. | Charlotte-Mecklenburg Storm Water Services Division, 2145 Suttle Avenue, Charlotte, NC 28208. | https://msc.fema.gov/portal/advanceSearch. | Aug. 1, 2025 | 370503
Oklahoma:
Pottawatomie | City of Shawnee (23-06-2226P). | The Honorable Ed Bolt, Mayor, City of Shawnee, 16 West 9th Street, Shawnee, OK 74801. | City Hall, 16 West 9th Street, Shawnee, OK 74801. | https://msc.fema.gov/portal/advanceSearch. | Jun. 27, 2025 | 400178
Pottawatomie | Citizen Potawatomi Nation (23-06-2226P). | John A. Barrett Jr., Tribal Chair, Citizen Potawatomi Nation, 1601 South Gordon Cooper Drive, Shawnee, OK 74801. | Citizen Potawatomi Nation Tribal Headquarters and Administration, 1601 South Gordon Cooper Drive, Shawnee, OK 74801. | https://msc.fema.gov/portal/advanceSearch. | Jun. 27, 2025 | 400553
Pottawatomie | City of Tecumseh (23-06-2226P). | The Honorable Eddy Parker, Mayor, City of Tecumseh, 114 North Broadway Street, Tecumseh, OK 74873. | City Hall, 114 North Broadway Street, Tecumseh, OK 74873. | https://msc.fema.gov/portal/advanceSearch. | Jun. 27, 2025 | 400179
Pottawatomie | Town of Bethel Acres (23-06-2226P). | The Honorable Tony Carlile, Mayor, Town of Bethel Acres, P.O. Box 1118, Shawnee OK 74802. | Town Hall, 18101 Bethel Road, Shawnee OK 74801. | https://msc.fema.gov/portal/advanceSearch. | Jun. 27, 2025 | 400346
Pottawatomie | Unincorporated areas of Pottawatomie County (23-06-2226P). | Melissa Dennis, Chair, Pottawatomie County Board of Commissioners, 309 North Broadway Avenue, Shawnee, OK 74801. | Pottawatomie County Emergency Operations Center, 13503 Acme Road, Shawnee, OK 74804. | https://msc.fema.gov/portal/advanceSearch. | Jun. 27, 2025 | 400496
Tennessee:
Shelby | City of Germantown (24-04-1644P). | The Honorable Mike Palazzolo, Mayor, City of Germantown, 1930 South Germantown Road, Germantown, TN 38138. | Economic and Community Development Building, 1920 South Germantown Road, Germantown, TN 38138. | https://msc.fema.gov/portal/advanceSearch. | Aug. 11, 2025 | 470353
Shelby | Unincorporated areas of Shelby County (24-04-1644P). | The Honorable Lee Harris, Mayor, Shelby County, 160 North Main Street, 11th Floor, Memphis, TN 38103. | Shelby County Engineers Office, 6463 Haley Road, Memphis, TN 38134. | https://msc.fema.gov/portal/advanceSearch. | Aug. 11, 2025 | 470214
Texas:
Collin | City of Lowry Crossing (24-06-0314P). | The Honorable Bob C. Petitt, Mayor, City of Lowry Crossing, 1405 South Bridgefarmer Road, Lowry Crossing, TX 75069. | City Hall, 1405 South Bridgefarmer Road, Lowry Crossing, TX 75069. | https://msc.fema.gov/portal/advanceSearch. | Jul. 14, 2025 | 481631
Collin | Town of Prosper (24-06-0728P). | The Honorable David F. Bristol, Mayor, Town of Prosper, 250 West 1st Street, Prosper, TX 75078. | Town Hall, 250 West 1st Street, Prosper, TX 75078. | https://msc.fema.gov/portal/advanceSearch. | Jun. 30, 2025 | 480141
Collin | Town of Prosper (24-06-1112P). | The Honorable David F. Bristol, Mayor, Town of Prosper, 250 West 1st Street, Prosper, TX 75078. | Town Hall, 250 West 1st Street, Prosper, TX 75078. | https://msc.fema.gov/portal/advanceSearch. | Jul. 14, 2025 | 480141
Collin | Unincorporated areas of Collin County (24-06-0314P). | The Honorable Chris Hill, Collin County Judge, 2300 Bloomdale Road, 1st Floor, McKinney, TX 75071. | Collin County Administration Building, 2300 Bloomdale Road, 1st Floor, McKinney, TX 75071. | https://msc.fema.gov/portal/advanceSearch. | Jul. 14, 2025 | 480130
Collin | Unincorporated areas of Collin County (24-06-0728P). | The Honorable Chris Hill, Collin County Judge, 2300 Bloomdale Road, Suite 4192, McKinney, TX 75071. | Collin County Juvenile Justice Alternative Education Program Building, 4690 Community Avenue, McKinney, TX 75071. | https://msc.fema.gov/portal/advanceSearch. | Jun. 30, 2025 | 480130
Dallas | City of Dallas (24-06-1960P). | Kimberly Bizor Tolbert, Manager, City of Dallas, 1500 Marilla Street, Room 4EN, Dallas, TX 75201. | Stormwater Operations Department, 2245 Irving Boulevard, 2nd Floor, Dallas, TX 75207. | https://msc.fema.gov/portal/advanceSearch. | Jul. 14, 2025 | 480172
Denton | Town of Flower Mound (23-06-2563P). | James Childers, Manager, Town of Flower Mound, 2121 Cross Timbers Road, Flower Mound, TX 75028. | Town Hall, 2121 Cross Timbers Road, Flower Mound, TX 75028. | https://msc.fema.gov/portal/advanceSearch. | Jun. 23, 2025 | 480777
Denton | Unincorporated areas of Denton County (24-06-1044P). | The Honorable Andy Eads, Denton County Judge, 1 Courthouse Drive, Suite 3100, Denton, TX 76208. | Denton County Development Services Department, 3900 Morse Street, Denton, TX 76208. | https://msc.fema.gov/portal/advanceSearch. | Jul. 15, 2025 | 480774
Denton | Unincorporated areas of Denton County (24-06-2435P). | The Honorable Andy Eads, Denton County Judge, 1 Courthouse Drive, Suite 3100, Denton, TX 76208. | Denton County Development Services Department, 3900 Morse Street, Denton, TX 76208. | https://msc.fema.gov/portal/advanceSearch. | Jun. 23, 2025 | 480774
Gillespie | Unincorporated areas of Gillespie County (24-06-1005P). | The Honorable Daniel Jones, Gillespie County Judge, 101 West Main Street, Mail Unit 9, Fredericksburg, TX 78624. | Gillespie County Courthouse, 101 West Main Street, Fredericksburg, TX 78624. | https://msc.fema.gov/portal/advanceSearch. | Jul. 17, 2025 | 480696
Rockwall | City of Royse City (24-06-1001P). | The Honorable Clay Ellis, Mayor, City of Royse City, P.O. Box 638, Royse City, TX 75189. | City Hall, 100 West Main Street, Royse City, TX 75189. | https://msc.fema.gov/portal/advanceSearch. | Aug. 1, 2025 | 480548
Tarrant | City of Haltom City (24-06-2022P). | The Honorable An Truong, Mayor, City of Haltom City, 4801 Haltom Road, Haltom City, TX 76117. | Public Works Department, 4200 Hollis Street, Haltom City, TX 76111. | https://msc.fema.gov/portal/advanceSearch. | Aug. 7, 2025 | 480599
Tarrant | City of Haslet (24-06-0031P). | The Honorable Gary Hulsey, Mayor, City of Haslet, 101 Main Street, Haslet, TX 76052. | City Hall, 101 Main Street, Haslet, TX 76052. | https://msc.fema.gov/portal/advanceSearch. | Aug. 11, 2025 | 480600
Tarrant | City of Richland Hills (24-06-2022P). | The Honorable Curtis Bergthold, Mayor, City of Richland Hills, 3200 Diana Drive, Richland Hills, TX 76118. | City Hall, 3200 Diana Drive, Richland Hills, TX 76118. | https://msc.fema.gov/portal/advanceSearch. | Aug. 7, 2025 | 480608
Tarrant | Unincorporated areas of Tarrant County (24-06-0031P). | The Honorable Tim O'Hare, Tarrant County Judge, 100 East Weatherford Street, Suite 501, Fort Worth, TX 76196. | Tarrant County Transportation Services Department, 200 Taylor Street, Suite 305, Fort Worth, TX 76196. | https://msc.fema.gov/portal/advanceSearch. | Aug. 11, 2025 | 480582
Travis | City of Austin (24-06-1484P). | T.C. Broadnax, Manager, City of Austin, P.O. Box 1088, Austin, TX 78767. | Watershed Protection Department, 505 Barton Springs Road, 11th Floor, Austin, TX 78704. | https://msc.fema.gov/portal/advanceSearch. | Aug. 11, 2025 | 480624

[FR Doc. 2025-09207 Filed 5-21-25; 8:45 am]

BILLING CODE 9110-12-P